DEPARTMENT OF HEALTH AND HUMAN SERVICES

Health Resources and Services Administration

Delegation of Authority

Notice is hereby given that I have delegated to the Administrator of the Health Resources and Services Administration, or his or her successor, the following authorities vested in the Secretary:

• The authorities vested under Section 343 of the Illegal Immigration Reform and Immigrant Responsibility Act (IIRIRA) of 1996, [8 U.S.C. 1182(a)(5)], as amended, titled “Certification Requirements for Foreign Healthcare Workers.”

These authorities may be redelegated. Exercise of these authorities is concurrent and does not supplant existing delegations of authority from the Secretary. Exercise of these authorities shall be in accordance with established policies, procedures, guidelines, and regulations as prescribed by the Secretary.

This delegation is effective immediately upon date of signature.

Dated: June 16, 2015.
Sylvia M. Burwell,
Secretary.

[FR Doc. 2015-15288 Filed 6-19-15; 8:45 am]

BILLING CODE 4165-15-P